DEPARTMENT OF ENERGY

Federal Energy Regulatory Commission

[Project No. 3023-014; Project No. 2972-027]

Blackstone Hydro, Inc.; City of Woonsocket, Rhode Island; Notice of Availability of Environmental Assessment

In accordance with the National Environmental Policy Act of 1969 and the Federal Energy Regulatory Commission's (Commission) regulations, 18 CFR part 380, the Office of Energy Projects has reviewed the application for a new license for the Blackstone Hydroelectric Project No. 3023 (Blackstone Project), and the application for a subsequent license for the Woonsocket Falls Hydroelectric Project No. 2972 (Woonsocket Project), and has prepared an Environmental Assessment (EA) for both projects. The Blackstone Project is located on the Blackstone River in Providence County, Rhode Island and Worchester County, Massachusetts. The Woonsocket Project is located on the Blackstone River in the City of Woonsocket, Providence County, Rhode Island.

The EA contains staff's analysis of the potential environmental effects of the projects and concludes that licensing the projects, with appropriate environmental protective measures, would not constitute a major federal action that would significantly affect the quality of the human environment.

The Commission provides all interested persons with an opportunity to view and/or print the EA via the internet through the Commission's Home Page (http://www.ferc.gov) using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

Any comments should be filed within 30 days from the date of this notice.

The Commission strongly encourages electronic filings. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. On the first page of your filing, please put the docket number P-3023-014 for the Blackstone Project and/or the docket number P-2972-027 for the Woonsocket Project.

For further information, contact Erin Kimsey at (202) 502-8621 or by email at erin.kimsey@ferc.gov.

Dated: July 10, 2020.
Kimberly D. Bose,
Secretary.

[FR Doc. 2020-15358 Filed 7-15-20; 8:45 am]

BILLING CODE 6717-01-P